DEPARTMENT OF TRANSPORTATION

Federal Transit Administration

Limitation on Claims Against Proposed Public Transportation Projects

AGENCY: Federal Transit Administration (FTA), DOT.

ACTION: Notice.

SUMMARY: This notice announces final environmental actions taken by the Federal Transit Administration (FTA) for projects in Phoenix, Arizona and Albany, Georgia. The purpose of this notice is to announce publicly the environmental decisions by FTA on the subject projects and to activate the limitation on any claims that may challenge these final environmental actions.

DATES: By this notice, FTA is advising the public of final agency actions subject to 23 U.S.C. 139(l). A claim seeking judicial review of FTA actions announced herein for the listed public transportation projects will be barred unless the claim is filed on or before August 8, 2019.

FOR FURTHER INFORMATION CONTACT: Nancy-Ellen Zusman, Assistant Chief Counsel, Office of Chief Counsel, (312) 353-2577 or Juliet Bochicchio, Environmental Protection Specialist, Office of Environmental Programs, (202) 366-9348. FTA is located at 1200 New Jersey Avenue SE, Washington, DC 20590. Office hours are from 9:00 a.m. to 5:00 p.m., Monday through Friday, except Federal holidays.

SUPPLEMENTARY INFORMATION: Notice is hereby given that FTA has taken final agency actions by issuing certain approvals for the public transportation projects listed below. The actions on the projects, as well as the laws under which such actions were taken, are described in the documentation issued in connection with the projects to comply with the National Environmental Policy Act (NEPA) and in other documents in the FTA environmental project file for the projects. Interested parties may contact either the project sponsor or the relevant FTA Regional Office for more information. Contact information for FTA's Regional Offices may be found at https://www.fta.dot.gov.

This notice applies to all FTA decisions on the listed projects as of the issuance date of this notice and all laws under which such actions were taken, including, but not limited to, NEPA [42 U.S.C. 4321-4375], Section 4(f) requirements [23 U.S.C. 138, 49 U.S.C. 303], Section 106 of the National Historic Preservation Act [54 U.S.C. 306108], and the Clean Air Act [42 U.S.C. 7401-7671q]. This notice does not, however, alter or extend the limitation period for challenges of project decisions subject to previous notices published in the Federal Register. The projects and actions that are the subject of this notice are:

1. Project name and location: Northwest Phase II Light Rail Extension, City of Phoenix, Maricopa County, Arizona. Project sponsor: Valley Metro. Project description: Valley Metro plans to construct the Northwest Phase II Light Rail Extension to extend service 1.5 miles northwest of the existing Valley Metro light rail line at Dunlap and 19th Avenues to the Metrocenter Mall located on the western side of Interstate 17 (I-17). The project consists of the construction of three new light rail stations, two park and ride facilities, a new rail bridge over I-17, replacement of two existing bridges to accommodate light rail vehicles, vehicular traffic and bicycles, and relocation of the existing Metrocenter Transit Center. This notice only applies to the discrete actions taken by FTA at this time, as described below. Nothing in this notice affects FTA's previous decisions, or notice thereof, for this project. Final agency actions: Section 4(f) determination, dated October 26, 2018; Section 106 finding of no adverse effect to historic properties, State Historic Preservation Office (SHPO) concurrence dated October 22, 2018; project-level air quality conformity; Section 6(f) of the Land and Water Conservation Fund Act determination, dated January 5, 2018; and Finding of No Significant Impact for the Northwest Phase II Light Rail Extension, dated February 5, 2019. Supporting documentation: Environmental Assessment Northwest Phase II Light Rail Extension, dated September 20, 2018.

2. Project name and location: Albany Multimodal Transportation Center, Albany, Georgia. Project Sponsor: City of Albany and Georgia Department of Transportation (GDOT). Project description: The City of Albany and GDOT will construct a new multimodal transportation center for the Albany Transit System on a 3-acre site that will house and support ATS operational needs, and other potential uses, such as intercity bus, rural transit, taxis, private auto services, and typical transit-oriented and transit-related commercial uses, as well as a small public computer lab. This notice only applies to the discrete actions taken by FTA at this time, as described below. Nothing in this notice affects FTA's previous decisions, or notice thereof, for this project. Final agency actions: Section 4(f) determination, date December 10, 2018; Finding of No Significant Impact for the Albany Multimodal Transportation Center, dated December 10, 2018; Section 106 finding of no adverse effect to historic properties for the Albany Freedom Historic District and Section 106 finding of adverse effect for Archaeological Site 9DU286, SHPO concurrence dated April 13, 2018; executed Memorandum of Agreement dated December 10, 2018; project-level air quality conformity. Supporting documentation: Environmental Assessment Albany Multimodal Transportation Center, Dougherty County, Georgia, dated May 22, 2018.

Elizabeth S. Riklin,
Deputy Associate Administrator for Planning and Environment.

[FR Doc. 2019-04284 Filed 3-8-19; 8:45 am]

BILLING CODE P